DEPARTMENT OF HEALTH AND HUMAN SERVICES

Administration for Children and Families

President's Committee on Mental Retardation; Notice of Meeting

Agency Holding the Meeting: President's Committee on Mental Retardation.

Time and Date: April 10, 2001—9:30 a.m.-5:30 p.m.; April 11, 2001—8:30 a.m.-1:00 p.m.

Place: Channel Inn, 650 Water Street, SW., Washington, DC 20024.

Status: Full Committee Meetings are open to the public. An interpreter for the deaf will be available upon advance request. All meeting sites are barrier free.

To Be Considered: The Committee plans to discuss critical issues concerning Federal Research and Demonstration, State Policy Collaboration, Minority and Cultural Diversity and Mission and Public Awareness, relating to individuals with mental retardation.

The PCMR acts in an advisory capacity to the President and the Secretary of the U.S. Department of Health and Human Services on a broad range of topics relating to programs, services, and supports for persons with mental retardation. The Committee, by Executive Order, is responsible for evaluating the adequacy of current practices in programs and supports for persons with mental retardation, and for reviewing legislative proposals that impact the quality of life that is experienced by citizens with mental retardation and their families.

Contact Person for More Information: Reginald F. Wells, Ph.D., Room 701 Aerospace Building, 370 L'Enfant Promenade, SW., Washington, DC 20447, (202) 619-0634.

Dated: March 12, 2001.
Reginald F. Wells,
Acting Executive Director, PCMR.

[FR Doc. 01-7113 Filed 3-21-01; 8:45 am]

BILLING CODE 4184-01-M